DEPARTMENT OF THE INTERIOR

Bureau of Land Management

[L58820000.PH0000.LXRSMA990000; HAG 11-0261]

Notice of Public Meeting, Medford District Resource Advisory Committee

AGENCY: Bureau of Land Management, Interior.

ACTION: Notice of public meeting.

SUMMARY: In accordance with the Secure Schools and Community Self-Determination Act and the Federal Advisory Committee Act, the U.S. Department of the Interior, Bureau of Land Management (BLM) Medford District Resource Advisory Committee (RAC) will meet as indicated below.

DATES: The meetings will begin 8:30 a.m., P.D.T., on August 10, August 24, August 31, and/or September 7, 2011, as required by workload.

ADDRESS: The Medford RAC will meet at the Medford Interagency Office, 3040 Biddle Road in Medford, Oregon.

FOR FURTHER INFORMATION CONTACT: Jim Whittington, BLM Medford District Public Affairs Officer, 3040 Biddle Road, Medford, Oregon 97504 or via phone at (541) 618-2220 or via electronic mail at jim_whittington@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The meeting agenda includes decisions on Title II project submissions and other matters as may reasonably come before the council. The public is welcome to attend all portions of the meeting and may make oral comments to the Council at 9:30 a.m., P.D.T., on August 10, 2011, at the meeting location. Those who verbally address the Medford RAC are asked to provide a written statement of their comments or presentation. Unless otherwise approved by the RAC Chair, the public comment period will last no longer than 30 minutes, and each speaker may address the RAC for a maximum of three minutes. If reasonable accommodation is required, please contact the BLM's Medford District Public Affairs Officer at (541) 618-2220 as soon as possible.

Before including your address, phone number, e-mail address, or other personal identifying information in your comment, you should be aware that your entire comment—including your personal identifying information—may be made publicly available at any time. While you can ask us in your comment to withhold your personal identifying information from public review, we cannot guarantee that we will be able to do so.

Dayne Barron,
District Manager, BLM Medford District Office.

[FR Doc. 2011-18129 Filed 7-18-11; 8:45 am]

BILLING CODE 4310-33-P